DEPARTMENT OF JUSTICE

Notice of Lodging of Consent Decree Under the Comprehensive Environmental Response, Compensation, and Liability Act of 1980 (“CERCLA”)

Notice is hereby given that, on December 27, 2006, a proposed Consent Decree (“Consent Decree”) in United States v. A.O. Corporation, et al., Civil Action No. 04-5918, was lodged with the United States District Court for the District of New Jersey.

In this action, the United States sought reimbursement of response costs incurred in connection with the release and threatened release of hazardous substances at the A.O. Polymer Superfund Site (“Site”), comprising 4.18 acres more or less located in Sparta Township, New Jersey. The United States has incurred at least $1,700,000 in unreimbursed past response costs relating to the Site, and estimates future response costs at $200,000. The Consent Decree resolves the United States' in rem claim under the Verified Complaint, and results in a recovery by the United States of 85% of the sales proceeds of the Site at a public sale. The Consent Decree also sets forth the terms that will govern the sale.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. A.O. Corporation, et al., D.J. Ref. 90-11-3-07174/1.

The Consent decree may be examined at the Office of the United States Attorney, District of New Jersey, Peter Rodino Federal Building, 970 Broad Street, 7th Floor, Newark, New Jersey 07102 (contact Assistant United States Attorney Susan Steele), and at U.S. EPA Region II, 290 Broadway, New York, New York 10007-1866 (contact Assistant Regional Counsel Frances Maria Zizila). During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.50 (25 cents per page reproduction cost) payable to the U.S. Treasury or, if by e-mail or fax, forward a check in that amount to the Consent Decree Library at the stated address.

Ronald Gluck,
Assistant Chief, Environmental Enforcement Section, Environment and Natural Resources Division.

[FR Doc. 07-304 Filed 1-24-07; 8:45 am]

BILLING CODE 4410-15-M